DEPARTMENT OF DEFENSE

GENERAL SERVICES ADMINISTRATION

NATIONAL AERONAUTICS AND SPACE ADMINISTRATION

[OMB Control No. 9000-0182; Docket No. 2020-0053; Sequence No. 4]

Submission for OMB Review; Privacy Training

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and renewal of a previously approved information collection requirement regarding privacy training.

DATES: Submit comments on or before August 12, 2020.

ADDRESSES: Written comments and recommendations for this information collection should be sent within 30 days of publication of this notice to www.reginfo.gov/public/do/PRAMain. Find this particular information collection by selecting “Currently under Review—Open for Public Comments” or by using the search function.

Additionally submit a copy to GSA through http://www.regulations.gov and follow the instructions on the site. This website provides the ability to type short comments directly into the comment field or attach a file for lengthier comments.

Instructions: All items submitted must cite Information Collection 9000-0182, Privacy Training. Comments received generally will be posted without change to http://www.regulations.gov, including any personal and/or business confidential information provided. To confirm receipt of your comment(s), please check www.regulations.gov, approximately two to three days after submission to verify posting. If there are difficulties submitting comments, contact GSA Regulatory Secretariat Division at 202-501-4755 or GSARegSec@gsa.gov.

FOR FURTHER INFORMATION CONTACT: Bryon Boyer, Procurement Analyst, at telephone 817-707-6671, or bryon.boyer@gsa.gov.

SUPPLEMENTARY INFORMATION:

A. OMB control number, Title, and any Associated Form(s): OMB Control No. 9000-0182, Privacy Training

B. Needs and Uses

This clearance covers the information that contractors must submit to comply with the following Federal Acquisition Regulation (FAR) requirement:

• 52.224-3(d). This clause requires contractors to:

○ (1) Maintain a record of initial and annual privacy training, for the contractor's employees that have: (a) Have access to a system of records; (b) create, collect, use, process, store, maintain, disseminate, disclose, dispose, or otherwise handle personally identifiable information on behalf of an agency; or (c) design, develop, maintain, or operate a system of records; and

○ (2) provide the above information to the contracting officer if requested.

The contracting officer will use the information in contract administration and to establish that all applicable contractor and subcontractor employees comply with the privacy training requirements.

C. Annual Burden

Recordkeeping Burden:

Recordkeepers: 33,162.

Hours per Recordkeeper: 3.0.

Total Recordkeeping Burden Hours: 99,483 hours.

Reporting Burden:

Respondents: 829.

Total Annual Responses: 829.

Total Burden Hours: 207 hours.

D. Public Comment

A 60-day notice was published in the Federal Register at 85 FR 26690, on May 05, 2020. No comments were received.

OBTAINING COPIES: Requesters may obtain a copy of the information collection documents from the GSA Regulatory Secretariat Division, by calling 202-501-4755 or emailing GSARegSec@gsa.gov. Please cite OMB Control No. 9000-0182, Privacy Training.

Dated: July 7, 2020.
Janet Fry,
Director, Federal Acquisition Policy Division, Office of Governmentwide Acquisition Policy, Office of Acquisition Policy, Office of Governmentwide Policy.

[FR Doc. 2020-14962 Filed 7-10-20; 8:45 am]

BILLING CODE 6820-EP-P